DEPARTMENT OF TRANSPORTATION

Office of the Secretary

Aviation Proceedings, Agreements Filed the Week Ending May 11, 2013

The following Agreements were filed with the Department of Transportation under the Sections 412 and 414 of the Federal Aviation Act, as amended (49 U.S.C. 1382 and 1384) and procedures governing proceedings to enforce these provisions. Answers may be filed within 21 days after the filing of the application.

Docket Number: DOT-OST-2013-0098.

Date Filed: May 8, 2013.

Parties: Members of the International Air Transport Association.

Subject: PTC12 via 3 Memo 0001/22 April 2013.

Intended Effective Date: 1 June 2013.

Barbara J. Hairston,
Acting Program Manager, Docket Operations, Federal Register Liaison.

[FR Doc. 2013-13141 Filed 6-3-13; 8:45 am]

BILLING CODE 4910-9X-P